DEPARTMENT OF THE INTERIOR

National Park Service

[NPS-WASO-NAGPRA-NPS0037908; PPWOCRADN0-PCU00RP14.R50000]

Notice of Intended Disposition: U.S. Department of the Interior, Bureau of Land Management, Craig, CO

AGENCY: National Park Service, Interior.

ACTION: Notice.

SUMMARY: In accordance with the Native American Graves Protection and Repatriation Act (NAGPRA), the U.S. Department of the Interior, Bureau of Land Management intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after June 12, 2024. If no claim for disposition is received by May 13, 2025, the human remains or cultural items in this notice will become unclaimed human remains or cultural items.

ADDRESSES: Kymm Gresset, Field Manager, Bureau of Land Management, Little Snake Field Office, 455 Emerson Street, Craig, CO 81625, telephone (970) 826-5089, email kgresset@blm.gov.

SUPPLEMENTARY INFORMATION: This notice is published as part of the National Park Service's administrative responsibilities under NAGPRA. The determinations in this notice are the sole responsibility of the Bureau of Land Management, and additional information on the human remains or cultural items in this notice, including the results of consultation, can be found in the related records. The National Park Service is not responsible for the identifications in this notice.

Abstract of Information Available

Based on the information available, human remains representing at least one individual have been reasonably identified. The 313 associated funerary objects are ground stone and lithic artifacts and faunal bone tools and faunal bone fragments and associated feature sediment.

In Moffat County, Colorado, during planned excavations at 5MF.11113, human remains were discovered on December 22, 2023. The individual was found at the base of a pit-type feature of the site. Excavation of one mostly intact and complete adult female was completed on February 13, 2024. Within the fill, just above and surrounding the human remains, approximately 163 fragments of faunal bone and four pieces of stone-tool-making debris were noted. The fill also contained a large amount of well-preserved sagebrush and juniper charcoal fragments. The Ancestral remains were surrounded by several funerary objects including a large concave, pecked stone located near the right scapula. The stone was located above the thoracic and cervical vertebrae, scapulae, and rib area. A complete stone tool was located anterior to the coxae. Two ground stone manos were located just north of the cranium. Two burned and shattered stone tools, as well as 15 tested pebbles were located atop and adjacent to the cranium. Three complete bone awls (split ungulate long bones) and a lithic artifact were located just west of the left hand. A left-side, possible adult pronghorn scapula was located just beyond and west of the right hand. The remains of a possible deer scapula were located on the east side of the body beyond the coxae, and north of the possible canine cranium. A pile of broken, crushed, and unburned faunal bones with a lithic artifact on top was uncovered a few centimeters north of the left foot. An articulated distal tibia, calcaneus, and astragalus of a young adult deer-sized ungulate was present. An articulated, unfused, broken calcaneus and astragalus of a sub-adult deer or pronghorn-sized ungulate was also present. A possible canine cranium, in a fragmented pile, was located posterior to the coxae. These remains appear to represent a single individual. The remains are likely fox or coyote-sized canid. A lithic artifact was also recovered adjacent to the canine cranium. After recovery of the human remains and associated artifacts, additional fragments of ground stone artifacts were determined to be likely associated with the human remains, so those artifacts were recovered and placed with the remains and items above, secured at the BLM Field Office in Meeker, CO. Based on the analysis of charcoal from a different feature, it was determined that the site dates to around 5,500 years before present, which places the individual in the Archaic cultural context, as described by archaeologists.

Determinations

The Bureau of Land Management has determined that:

• The human remains described in this notice represent the physical remains of one individual of Native American ancestry.

• The 313 objects (including 31 boxes of soil recovered from the burial feature) described in this notice are reasonably believed to have been placed intentionally with or near individual human remains at the time of death or later as part of the death rite or ceremony.

• The Crow Tribe of Montana; Eastern Shoshone Tribe of the Wind River Reservation, Wyoming; Hopi Tribe of Arizona; Northern Arapaho Tribe of the Wind River Reservation, Wyoming; Northern Cheyenne Tribe of the Northern Cheyenne Indian Reservation, Montana; Pueblo of Jemez, New Mexico; Pueblo of Zia, New Mexico; Rosebud Sioux Tribe of the Rosebud Indian Reservation, South Dakota; Shoshone-Bannock Tribes of the Fort Hall Reservation; Southern Ute Indian Tribe of the Southern Ute Reservation, Colorado; Ute Indian Tribe of the Uintah & Ouray Reservation, Utah; and the Ute Mountain Ute Tribe have priority for disposition of the human remains or cultural item described in this notice.

Claims for Disposition

Written claims for disposition of the human remains or cultural items in this notice must be sent to the appropriate official identified in this notice under ADDRESSES. If no claim for disposition is received by May 13, 2025, the human remains or cultural items in this notice will become unclaimed human remains or cultural items. Claims for disposition may be submitted by:

1. Any one or more of the Indian Tribes or Native Hawaiian organizations identified in this notice.

2. Any lineal descendant, Indian Tribe, or Native Hawaiian organization not identified in this notice who shows, by a preponderance of the evidence, that they have priority for disposition. Disposition of the human remains or cultural items in this notice may occur on or after June 12, 2024. If competing claims for disposition are received, the Bureau of Land Management must determine the most appropriate claimant prior to disposition. Requests for joint disposition of the human remains or cultural items are considered a single request and not competing requests. The Bureau of Land Management is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 3, 2024.
Melanie O'Brien,
Manager, National NAGPRA Program.

[FR Doc. 2024-10328 Filed 5-10-24; 8:45 am]

BILLING CODE 4312-52-P